INTER-AMERICAN FOUNDATION BOARD MEETING

Sunshine Act Meetings

Time and Date: January 22, 2007, 9:15 a.m.-12:30 p.m.

Place: 901 N. Stuart Street, Tenth Floor, Arlington, Virginia 22203.

Status: Open session.

Matters to be Considered:

• Approval of the Minutes of the May 22, 2006, Meeting of the Board of Directors.

• President's Report.

• Program Update.

• Operations Update.

• External Affairs.

• Congressional Affairs.

• Board site visit to IAF grantees.

Portions to be Open to the Public: • All.

Portions to be Closed to the Public: • None.

Contact Person For More Information: • Jennifer R. Hodges, General Counsel—(703) 306-4320.

Dated: January 9, 2007.
Jennifer R. Hodges,
General Counsel.

[FR Doc. 07-189 Filed 1-12-07; 3 pm]

BILLING CODE 7025-01-P